DEPARTMENT OF ENERGY

Federal Energy Regulatory Commission

[Docket No. CP08-465-000]

ANR Pipeline Company; Revised Notice of Site Visit

December 4, 2008.

On December 10, 2008, staff of the Federal Energy Regulatory Commission will conduct a site visit of ANR Pipeline Company's proposed Wisconsin 2009 Expansion Project in Janesville, Wisconsin. The purpose of this site visit is to review the project's proposed and alternative routes, and the residential areas potentially affected by the project.

Please note that this Revised Notice of Site Visit revises the Notice of Site Visit previously issued on December 3, 2008. The site visit will take place one day earlier than previously announced.

Interested parties may accompany staff during its visit and should meet at 10:30 a.m. at: Hampton Inn Janesville, 2400 Fulton Street, Janesville, WI 53546.

Those planning to accompany staff during its visit must provide their own transportation.

For additional information, please contact the Commission's Office of External Affairs at 1-866-208-FERC.

Kimberly D. Bose,
Secretary.

[FR Doc. E8-29354 Filed 12-10-08; 8:45 am]

BILLING CODE 6717-01-P